DEPARTMENT OF COMMERCE

[I.D. 100901A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Swordfish Import Certificate of Eligibility.

Form Number(s): None.

OMB Approval Number: 0648-0363.

Type of Request: Regular submission.

Burden Hours: 5,700.

Number of Respondents: 204.

Average Hours Per Response: 1 hour.

Needs and Uses: In order to support recommendations of the International Commission for the Conservation of Atlantic Tunas, imports of swordfish have to be accompanied by a certificate of eligibility for lawful entry into the customs territory of the United States. The objective is to ensure that all imports of Atlantic swordfish meet the same minimum size standards as apply to landings by U.S. vessels.

Affected Public: Business and other for-profit organizations.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 4, 2001.
Madeleine Clayton,
Departmental Paperwork Clearance Officer, Office of the Chief Information Officer.

[FR Doc. 01-25718 Filed 10-11-01; 8:45 am]

BILLING CODE 3510-22-S